DEPARTMENT OF ENERGY

Federal Energy Regulatory Commission

[Docket Nos. EL05-146-000, et al.]

Independent Energy Producers Association, et al.; Electric Rate and Corporate Filings

April 14, 2006.

The following filings have been made with the Commission. The filings are listed in ascending order within each docket classification.

1. Independent Energy Producers Association, Complainant v. California Independent System Operator Corporation, Respondent

[Docket No. EL05-146-000]

Take notice that on March 31, 2006, the California Independent System Operator Corporation filed an agreement to settle a pending complaint with the Settling Parties.

Comment Date: 5 p.m. eastern time on April 20, 2006.

2. LG&E Energy Marketing Inc., Louisville Gas & Electric Company, Kentucky Utilities Company, Western Kentucky Energy Corporation, LG&E Energy Marketing Inc., et al.

[Docket Nos. ER94-1188-040, ER98-4540-009, ER99-1623-009, ER98-1279-011, EL05-99-004]

Take notice that on April 13, 2006, LG&E Energy Marketing Inc., Louisville Gas & Electric Company, Kentucky Utilities Company and Western Kentucky Energy Corporation (collectively, LG&E Parties) submit a supplemental refund report in compliance with the Commission's February 15, 2006 letter order.

Comment Date: 5 p.m. eastern time on April 21, 2006.

3. Midwest Independent Transmission System Operator, Inc.

[Docket No. ER04-691-070]

Take notice that on April 3, 2006 Midwest Independent Transmission System Operator, Inc., filed proposed revisions to its Open Access Transmission and Energy Markets Tariff, Third Revised Volume No. 1, in compliance with the Commission's 3/3/06 Order.

Comment Date: 5 p.m. eastern time on April 24, 2006.

4. Auburndale Power Partners, L.P.

[Docket No. ER06-735-000]

Take notice that on March 29, 2006 Auburndale Power Partners, L.P. filed a withdrawal of its Petition for Order Accepting Market-Based Rate Schedule filed March 17, 2006.

Comment Date: 5 p.m. eastern time on April 21, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive.

Magalie R. Salas,
Secretary.

[FR Doc. E6-6233 Filed 4-25-06; 8:45 am]

BILLING CODE 6717-01-P